SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before November 9, 2015.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: All 8(a) participants are required to provide semiannual information on any agents, representatives, attorneys, and accounts receiving compensation to assist in obtaining a Federal contract for the participant. The information addresses the amount of compensation received and description of the activities performed in return for such compensation. The information is used to ensure that participants do not engage in any improper or illegal activity in connection with obtaining a contract.

Solicitation of Public Comments:

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections:

Title: Representatives Used and Compensation Paid for Services in Connection with Obtaining Federal Contracts.

Description of Respondents: 8(a) Program Participants.

Form Number: SBA Form 1790.

Total Estimated Annual Responses: 11,902.

Total Estimated Annual Hour Burden: 2975.50.

Curtis B. Rich,
Management Analyst.

[FR Doc. 2015-25822 Filed 10-8-15; 8:45 am]

BILLING CODE 8025-01-P